DEPARTMENT OF COMMERCE

National Oceanic and Atmospheric Administration

50 CFR Part 648

[Docket No. 120109034-2171-01]

RIN 0648-XD212

Fisheries of the Northeastern United States; Northeast Multispecies Fishery; Trimester Closure and Trip Limit Adjustments for the Common Pool Fishery

AGENCY: National Marine Fisheries Service (NMFS), National Oceanic and Atmospheric Administration (NOAA), Commerce.

ACTION: Temporary rule; closure.

SUMMARY: We are closing the Georges Bank cod Trimester Total Allowable Catch Area for the remainder of Trimester 3, through April 30, 2014. Based on our projection, the common pool fishery has caught 97 percent of its Georges Bank cod Trimester 3 total allowable catch, triggering the regulatory requirement to close that area for the remainder of the trimester. This action is intended to prevent an overage of the common pool's Georges Bank cod quota. Because the common pool catch of Georges Bank cod is not limited to the Georges Bank cod Trimester Total Allowable Catch Area, we are reducing the common pool possession and trip limit for the Georges Bank cod stock to zero, in order to prevent the overharvest of the common pool's fishing year 2013 allocation of Georges Bank cod. We are also increasing the common pool possession and trip limit for Southern New England/Mid-Atlantic winter flounder to allow the common pool fishery to catch more of its quota for that stock.

DATES: This action is effective April 9, 2014, through April 30, 2014.

FOR FURTHER INFORMATION CONTACT: Liz Sullivan, Fishery Management Specialist, 978-282-8493.

SUPPLEMENTARY INFORMATION: The regulations at § 648.82(n)(2)(ii) require the Regional Administrator to close the Trimester Total Allowable Catch (TAC) Area for a stock when 90 percent of the Trimester TAC is projected to be caught. The fishing year (FY) 2013 common pool quota for Georges Bank (GB) cod is 32 mt, which is divided into Trimester TACs. The Trimester 3 TAC is 18.2 mt (revised due to underages from Trimesters 1 and 2). Based on the most recent data, which include vessel trip reports (VTRs), dealer-reported landings, and vessel monitoring system (VMS) information, we estimate that 97 percent of the Trimester 3 TAC for GB cod has been caught. Therefore, effective April 9, 2014, the GB cod Trimester TAC Area is closed for the remainder of Trimester 3, through April 30, 2014, to all owners or operators of common pool vessels fishing with trawl gear, sink gillnet gear, and longline/hook gear. The GB cod Trimester TAC Area includes statistical areas 521, 522, 525, and 561. The GB cod Trimester TAC Area will reopen to common pool vessels fishing with trawl, sink gillnet, or longline/hook gear at the beginning of FY 2014, on May 1, 2014.

The regulations at § 648.86(o) authorize the Regional Administrator to adjust the possession and trip limits for common pool vessels to prevent the overharvest or underharvest of the common pool quotas. Based on data reported through March 25, 2014, the common pool fishery has caught approximately 98 percent of its GB cod sub-annual catch limit (sub-ACL) for FY 2013. Despite the GB cod Trimester TAC Area closure described above, recent analysis shows that catch from outside the Trimester TAC Area would likely cause the common pool to exceed its allocation for GB cod if further action is not taken. Therefore, the possession and trip limit for GB cod, defined as cod caught outside the Gulf of Maine Regulated Mesh Area (as defined in § 648.80(a)(1)), is set to zero for all common pool vessels, effective April 9, 2014, through April 30, 2014.

Common pool groundfish vessels that have declared their trip through the VMS or IVR system, and crossed the VMS demarcation line prior to April 9, 2014, may complete their trip in part, or all, in the GB cod Trimester TAC Area. Additionally, such vessels will not be subject to the new possession and trip limit for that trip.

The regulations at § 648.86(o) authorize the Regional Administrator to adjust the possession limits for common pool vessels in order to prevent the overharvest or underharvest of the common pool quotas. As of March 25, 2014, the common pool has caught 81 percent of its sub-ACL of Southern New England/Mid-Atlantic (SNE/MA) winter flounder. To allow the common pool fishery to catch more of its quota for that stock, effective April 9, 2014, the possession and trip limit of SNE/MA winter flounder, defined as winter flounder caught within the Inshore GB and SNE/MA Broad Stock Areas (as defined in § 648.10(k)(3)(ii) and (iv)) for all common pool vessels, per day-at-sea, is increased from 300 lb (0.14 mt) to 1,000 lb (0.45 mt), with a maximum trip limit of 2,000 lb (0.9 mt). We estimate that if the possession and trip limit is raised, the common pool fleet will reach approximately 88 percent of its quota by the end of the fishing year.

At the end of FY 2013, we will evaluate total common pool catch, and if the common pool fishery has exceeded its annual quota for any stock for FY 2013, we are required to deduct the overage from the respective common pool quota for FY 2014. Uncaught portions of the common pool's annual quota may not be carried over to the next FY. Weekly quota monitoring reports for the common pool fishery can be found on our Web site at: http://www.nero.noaa.gov/ro/fso/MultiMonReports.htm. We will continue to monitor common pool catch through VTRs, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations require the Regional Administrator to close a trimester TAC area to the common pool fishery when 90 percent of the Trimester TAC for a stock has been caught. Updated catch information only recently became available indicating that the common pool fishery has caught over 90 percent of its Trimester 3 TAC for GB cod. The time necessary to provide for prior notice and comment, and a 30-day delay in effectiveness, would prevent the immediate closure of the GB cod Trimester 3 TAC area and reduction of trip limits, and would increase the likelihood that the common pool fishery would exceed its quota of GB cod, to the detriment of this stock.

Further, an overage of the Trimester 3 TAC would cause the common pool fishery to exceed its total annual quota for GB cod, which would trigger accountability measures in FY 2014. Overages would not only have negative economic impacts on the common pool fishery, but would also undermine the conservation objectives of the Northeast Multispecies Fishery Management Plan. As a result, immediate implementation of this action is necessary to help ensure that the common pool fishery does not exceed its GB cod quota.

There is additional good cause to waive the delayed effective period because part of this action relieves restrictions on fishing vessels by increasing this possession and trip limit. The possession and trip limit increase for SNE/MA winter flounder reduces the probability of underharvesting for this stock. The time necessary to provide for prior notice and comment, and a 30-day delay in effectiveness, would prevent NMFS from implementing the necessary possession and trip limit adjustment for SNE/MA winter flounder in a timely manner, which could undermine management objectives of the NE Multispecies Fishery Management Plan, and cause negative economic impacts to the common pool fishery.

Authority: 16 U.S.C. 1801 et seq.

Dated: April 4, 2014.
James P. Burgess,
Acting Director, Office of Sustainable Fisheries, National Marine Fisheries Service.

[FR Doc. 2014-07944 Filed 4-4-14; 4:15 pm]

BILLING CODE 3510-22-P